DEPARTMENT OF THE INTERIOR

Central Utah Project Completion Act

AGENCY: Department of the Interior, Office of the Assistant Secretary—Water and Science (Interior).

ACTION: Notice of intent to prepare an Environmental Assessment for the Conversion of Central Utah Project water from irrigation to municipal and industrial use in Summit and Wasatch counties, Utah.

SUMMARY: Pursuant to the National Environmental Policy Act of 1969, the Department of the Interior, Central Utah Project Completion Act Office will prepare an Environmental Assessment on the conversion of 12,200 acre-feet of Central Utah Project (CUP) water from irrigation to municipal and industrial (M&I) use over a period of up to 25 years. Water was originally to be developed exclusively for irrigation use under the Bonneville Unit of the CUP in Summit and Wasatch counties, Utah. Suburban development in the counties has resulted in agricultural land being taken out of production and developed into residential areas. Under the authority of Bureau of Reclamation Law, specifically Section 9(c)(1) of the Reclamation Project Act of 1939 Act (43 U.S.C. 485h), the Colorado River Storage Project Act of 1956 (43 U.S.C. 620 et seq.), and Section 205 of the Central Utah Project Completion Act (Pub. L. 102-575), the Secretary of the Interior oversees Bonneville Unit project planning and therefore has authority to convert CUP water from irrigation to M&I use. Such conversions were addressed under the terms of the Central Utah Water Conservancy District's 1965 Repayment Contract, No. 14-06-400-4286.

DATES: Dates and locations for public scoping will be announced locally.

SUPPLEMENTARY INFORMATION: The Bonneville Unit of the CUP was authorized to develop central Utah's water resources. Both the 1987 Final Supplement to the Final Environmental Impact Statement for the Municipal and Industrial System, Bonneville Unit, Central Utah Project (FEIS) and the 2004 Supplement to the 1988 Definite Plan Report for the Bonneville Unit (DPR) describe the current allocation of Project water for Summit and Wasatch counties—2,400 acre-feet for M&I use and 15,100 acre-feet for irrigation use. The 1996 Final Environmental Impact Statement for the Wasatch County Water Efficiency Project and Daniel Replacement Project evaluates the conveyance of the water supply described in the 1987 M&I FEIS. Due to residential and commercial development of agricultural lands within the counties, there is a need to convert CUP water from irrigation to M&I use. An Environmental Assessment will be prepared to evaluate the conversion of 12,200 acre-feet of CUP water from irrigation to M&I use over a period of up to 25 years. The Environmental Assessment will evaluate the schedule of conversion and identify potential effects and the significance of those effects. Issues to be analyzed include impacts on wildlife, cultural resources, special status plants and animals, and water resources. Because the proposed conversion changes the use of water described in the DPR, Interior will notify Congress of the proposed conversion before it is implemented. Upon completion of the CUP, a final allocation of Project water and Project costs will be made.

Information, Comments, and Inquiries: Additional information on matters related to this notice can also be obtained from: Mr. Wayne G. Pullan, 302 East 1860 South Provo, Utah 84606, (801) 379-1194, wpullan@uc.usbr.gov.

Dated: April 17, 2007.
Reed R. Murray,
Program Director, Department of the Interior.

[FR Doc. E7-7749 Filed 4-23-07; 8:45 am]

BILLING CODE 4310-RK-P